DEPARTMENT OF TRANSPORTATION

Federal Aviation Administration

Availability of Record of Decision for the Final Environmental Impact Statement, Phoenix Sky Harbor International Airport, Phoenix, Maricopa County, AZ

AGENCY: Federal Aviation Administration, DOT.

ACTION: Notice of availability for Record of Decision.

SUMMARY: The Federal Aviation Administration (FAA) is issuing this notice to advise the public that it has published a Record of Decision (ROD) for the Final Environmental Impact Statement (FEIS) that evaluated a proposed Airport Development Program at Phoenix Sky Harbor International Airport (PHX), Phoenix, Maricopa County, Arizona.

FOR FURTHER INFORMATION CONTACT: Jennifer Mendelsohn, Environmental Protection Specialist, AWP-621.6, Airports Division, Federal Aviation Administration, Western-Pacific Region, P.O. Box 92007, Los Angeles, California 90009-2007, Telephone: 301/725-3637.

SUPPLEMENTARY INFORMATION: The Federal Aviation Administration (FAA) has completed and is publishing its Record of Decision for the proposed Airport Development Program at Phoenix Sky Harbor International Airport. FAA had published its FEIS on February 10, 2006. The FEIS was prepared by the FAA pursuant to the National Environmental Policy Act of 1969 and assessed the potential impact of the proposed Airport Development Program, as well as the No Action Alternative where no improvements at the airport would be made. The FAA accepted comments on the FEIS and these comments along with FAA responses are included in an appendix to the ROD.

The FAA selected the Airport Development Program (ADP) as the preferred alternative in meeting the purpose and need for improvements at the airport. The ADP Alternative includes demolition of Terminal 2 and ancillary facilities, construction and operation of a 33-gate West Terminal Complex and related construction of access roads, concourses, aprons, airline areas and structural and surface parking areas, modifications to Terminal 4, Concourse N4 International Gates, construction and operation of two crossfield Taxiways Uniform “U” and Victor “V”, realignment of Sky Harbor Boulevard, construction and operations of the Automated People Mover (APM) Stage 2, including acquisition of approximately sixteen acres of land to accommodate the proposed APM maintenance control and storage facility and APM station to connect with the Valley Metro Light Rail.

Copies of the ROD are available for public review at the following locations during normal business hours: U.S. Department of Transportation, Federal Aviation Administration, Western-Pacific Region, Office of the Airports Division, 15000 Aviation Boulevard, Hawthorne, California 90261.

U.S. Department of Transportation, Federal Aviation Administration, National Headquarters, Community and Environmental Needs Division, 800 Independence Avenue, SW., Washington, DC 20591.

Phoenix Sky Harbor International Airport, 3400 Sky Harbor Boulevard, Terminal 3, Level 3 East Mezzanine, Phoenix, AZ contact person is Ms. Margaret Gonzales (602) 273-3340.

The copies of the ROD are also available at the following libraries: Burton Barr Central Library, 1221 N. Central Avenue, Phoenix, AZ 85004; Ocotillo Branch Library, 102 W. Southern Avenue, Phoenix, AZ 85041; Harmon Branch Library, 411 W. Yavapai Street, Phoenix, AZ 85003; Saguaro Branch Library, 2808 N. 46th Street, Phoenix, AZ 85008; Tempe Public Library, 3500 S. Rural Road, Tempe, AZ 85282; City of Scottsdale Library, 3839 North Drinkwater Boulevard, Scottsdale, AZ 85251.

The ROD may also be viewed at the Airport's Web site at: http://phoenix.gov/AVIATION/index.html.

Questions may be directed to the individual above under the heading FOR FURTHER INFORMATION CONTACT.

Issued in Hawthorne, California on April 24, 2006.
George E. Aiken,
Acting Manager, Airports Division, Western-Pacific Region, AWP-600.

[FR Doc. 06-4326 Filed 5-8-06; 8:45 am]

BILLING CODE 4910-13-M